FEDERAL COMMUNICATIONS COMMISSION

[DA 25-792; FR ID 311571]

Media Bureau Announces a Phased Resumption of First-Come, First-Served Processing of Applications for Major Changes for Class A, LPTV and TV Translator Stations and Applications for New LPTV and TV Translator Stations

AGENCY: Federal Communications Commission.

ACTION: Notice.

SUMMARY: In this document, the Federal Communications Commission's Media Bureau (Bureau) announces that beginning 11:59 p.m. ET, September 3, 2025, the Commission is initiating a phased process to lift the current freeze on major changes for Class A television, low power television (LPTV), and television (TV) translator stations, in its entirety, and permitting the filing of applications for new LPTV and TV translator stations. Outlined in this document are the dates relating to the phased process and procedures that applicants must follow when filing during these opportunities.

DATES: September 3, 2025, 11:59 p.m. ET, October 22, 2025, 12:01 a.m. ET, December 3, 2025, 6:00 p.m. ET, January 21, 2026, 12:01 a.m. ET.

ADDRESSES: Petitions to deny may be filed by any of the following methods:

• Electronic Filers. Petitions to Deny may be filed electronically using the internet through the Commission's Licensing and Management System (LMS) at https://enterpriseefiling.fcc.gov/dataentry/login.html.

• Paper Filers: Parties who choose to file by paper must file an original and one copy of each filing. Filings can be sent by hand or messenger delivery, by commercial courier, or by the U.S. Postal Service. All filings must be addressed to the Secretary, Federal Communications Commission and to the Attention of the Chief of the Video Division, Media Bureau. It is also encouraged to submit a courtesy copy by email to: Shaun.Maher@fcc.gov.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial overnight mail (other than U.S. Postal Service Express Mail and Priority Mail) must be sent to 9050 Junction Drive, Annapolis Junction, MD 20701.

• Postal Service first-class, Express, and Priority mail must be addressed to 45 L Street NE, Washington, DC 20554.

FOR FURTHER INFORMATION CONTACT: Mark Colombo (technical questions), Mark.Colombo@fcc.gov, (202) 418-7611, or Shaun Maher (legal questions), Shaun.Maher@fcc.gov, (202) 418-2324, of the Video Division, Media Bureau.

SUPPLEMENTARY INFORMATION: This is a synopsis of the Media Bureau's document, (public notice), DA 25-792, released on September 3, 2025. The full text of this document is available for download at https://docs.fcc.gov/public/attachments/DA-25-792A1.pdf. To request materials in accessible formats (braille, large print, computer diskettes, or audio recordings), please send an email to FCC504@fcc.gov or call the Consumer & Government Affairs Bureau at (202) 418-0530 (VOICE), (202) 418-0432 (TTY).

Synopsis

Phase 1: Temporary Major and Minor Modification Filing Freezes

Effective 11:59 p.m. ET, September 3, 2025, the Bureau is reinstituting a freeze on all applications for major changes for Class A, LPTV, and TV translator stations. In addition, at 6:00 p.m. ET, October 15, 2025, the Bureau will institute a freeze on all minor change applications for Class A, LPTV, and TV translator stations and displacement applications for LPTV and TV translator stations. These freezes are necessary in order to provide a stable database for stations to prepare for the filing of major modification applications. Applicants that file a major or minor modification application during these temporary freezes will be dismissed without consideration and will need to re-file once the freezes are lifted.

Phase 2: Expanded Major Modification Filing Opportunity

Beginning at 12:01 a.m. ET, October 22, 2025, the Bureau will lift the major modification application filing freeze and accept, on a first-come, first-served basis, applications for all major changes to Class A, LPTV, and TV translator stations including those that propose relocations of no more than 121.0 km from the station's antenna reference coordinates. At 12:01 a.m. ET, October 22, 2025, the Bureau will also lift the temporary freeze on all minor modification and displacement applications. We are imposing a distance limit on major changes in order to ensure that existing stations are able to implement facility modifications that maximize service to their existing viewers and markets before we permit new station applications or moves by existing stations that practically amount to a new station (i.e., stations that may seek to forego serving their existing viewers or markets and relocate to distant locations).

Phase 3: Temporary Reinstitution of Major and Minor Application Filing Freezes

At 6:00 p.m. ET, December 3, 2025, all applications for major changes for Class A, LPTV, and TV translator stations will once again be frozen. At 6:00 p.m. ET, January 14, 2026, the Bureau will also institute a temporary freeze on all minor change applications for Class A, LPTV, and TV translator stations and displacement applications for LPTV and TV translator stations. These freezes are being reinstituted in order to provide a stable database for stations to prepare for the complete lifting of the freeze on major modification applications and for applicants to prepare for the opportunity to seek new stations. Applicants that file applications during these temporary freezes will be dismissed and will need to re-file once the freezes are lifted.

Phase 4: Resumption of Minor and Major Modification Filings and Commencement of Filing for New LPTV and TV Translator Stations

Beginning at 12:01 a.m. ET, January 21, 2026, we will lift the freezes and begin accepting, on a first-come, first-served basis, all major change and minor change applications (including displacement applications). At the same time, we will lift the freeze and begin accepting, on a first-come, first-served basis, applications for new LPTV and TV translator stations. These filings opportunities will remain available indefinitely unless the Commission determines that a new freeze is warranted. There will be no geographical restrictions or any other limitations on applications for minor modification, major modification or applications for new LPTV and TV translator stations beyond the operating parameters and enumerated restrictions set forth in parts 73 and 74 of the Commission's rules.

Application Filing and Processing Procedures

Each applicant should carefully read the instructions to its application, as well as this public notice, to ensure that each response, which constitutes a certification or material representation, is accurate and complete. We also remind applicants that they must certify that, at the time of filing, they have sufficient finances to construct and operate the facility, and there is reasonable site assurance for the site specified in the application.

Applications Filing Instructions and Fees. Class A station major modification applications must be filed electronically via the Commission's Licensing and Management System (LMS) on FCC Form 2100—Schedule E and applicants will be required to pay the requisite fee for a major change application ($5,000.00). LPTV and TV translator applications for new stations or major changes to existing stations must be filed electronically via LMS on FCC Form 2100—Schedule C and applicants will be required to pay the requisite fee for a major change application ($910.00). Filing instructions are provided in the Appendix of the released public notice document.

First-Come, First-Served Processing and Settlements. All major change and new station applications will be processed on a first-come, first-served basis and will be “cut off” daily for purposes of determining mutually exclusive (MX) applications. Applications filed during these opportunities may not propose facilities that would cause impermissible interference to other authorized full power, Class A, and LPTV/translator stations, including valid construction permits for same, and any earlier-filed application for a new or modified facility, including earlier-filed applications for minor (including displacement) or major change. Applicants will be given an opportunity to resolve MX applications through settlement or engineering amendment that may be submitted either prior or during a settlement window to be announced by the Bureau by separate public notice. Following the close of the settlement window, remaining MX applications will be resolved through competitive bidding.

Acceptability of Applications. Applicants will be permitted to input information in their applications prior to any filing opportunities, but should not submit their application prior to the dates and times set forth above for any given opportunity. Applications that are submitted before the freezes are lifted will be dismissed without consideration. The Bureau will conduct an initial review of all applications filed during these opportunities for compliance with the filing parameters set forth in the released public notice document and all relevant technical and legal rules. It will dismiss any application that is unacceptable for filing. An applicant will have one opportunity to file a minor curative amendment to a dismissed application and a petition for reconsideration, requesting reinstatement of the application nunc pro tunc. Any curative amendment may only propose minor changes, must comply with all relevant rules, and may not result in any new MX applications. Bureau staff will not reinstate the application of an applicant that is unable to cure all defects (including any defects not previously identified by the Bureau staff). This process will ensure the timely evaluation of processing of all applications and issuance of construction permits.

Petitions to Deny. Once a singleton application is found to be legally and technically acceptable, the application will be accepted for filing, which will commence the 30-day period for filing petitions to deny. For MX applications that are subject to competitive bidding, petitions to deny may be filed against the winning bidder's long-form application within fifteen (15) days following the issuance of a public notice announcing that the long-form application has been accepted for filing. Petitions to deny must be filed in accordance with the procedures set forth in the Commission's rules. Electronic submissions are encouraged, though petitions to deny may be filed electronically or by paper.

Local Requirements. If and when a major modification application or new station application is accepted for filing, the applicant must provide a public notice to inform its local community about its proposal. The initial filing of a major change or new station application does not trigger the local public notice requirements. Rather, the acceptance for filing starts an applicant's local public notice obligations. Specifically, once an application is accepted for filing, an LPTV/TV translator applicant for a new station or major modification must give local notice by posting notice online, either (1) on the station website or a website affiliated with the station, the applicant, or its parent entity, or (2) on a publicly accessible, locally targeted website. The online notice must be posted for 30 consecutive days following the acceptance of the application for filing. A Class A major modification applicant must provide an on-air public announcement containing the text set forth in § 73.3580(b)(1)(i). The on-air notice must be aired six times between the hours of 7:00 a.m. and 11:00 p.m. (Monday-Friday) over the course of four consecutive weeks following the acceptance of the application for filing.

Amendments to Applications. Each applicant must continue to maintain the accuracy and completeness of the information in its application. Each applicant must notify the Commission, by electronically filing an amendment, of any substantial change that may be of decisional significance to the application.

This action is taken by the Chief, Media Bureau, pursuant to authority delegated by §§ 0.61 and 0.283 of the Commission's rules. 47 CFR 0.61 and 0.283.

Federal Communications Commission.
Thomas Horan,
Chief of Staff, Media Bureau.

[FR Doc. 2025-17586 Filed 9-11-25; 8:45 am]

BILLING CODE 6712-01-P